ENVIRONMENTAL PROTECTION AGENCY

ER-FRL-8592-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

Summary of Rating Definitions

Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that is of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that is within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that is outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Draft EISs

EIS No. 20080523, ERP No. D-BLM-J03022-00, UNEV Pipeline Project, Construction of a 399-mile Long Main Petroleum Products Pipeline, Salt Lake, Tooele, Juab, Millard, Iron, and Washington Counties, UT and Lincoln and Clark Counties, NV.

Summary: EPA expressed environmental concerns about potential adverse impacts to human health and the environment from arsenic and lead contaminated soils, and to wetlands and aquatic resources. In addition, the final EIS should better characterize the existing air quality conditions, update criteria used in determining air quality impact projections, and include information on visibility. Rating EC2.

EIS No. 20080537, ERP No. D-BLM-K65352-NV, Ely Energy Center, Construction and Operation 1500 MW Coal-Fired Power Plant and Associated Features, White Pine, Lincoln, Clark, Nye, Elko and Nevada Counties, NV.

Summary: EPA expressed environmental concerns about aquatic resource, endangered species, and construction emission impacts. Rating EC2.

EIS No. 20090017, ERP No. D-USN-K11022-GU, Mariana Islands Range Complex (MIRC), To Address Ongoing and Proposed Military Training Activities, Mariana Islands, GU.

Summary: EPA expressed environmental concerns about impacts to coral reef ecosystems, water quality, and the threatened green sea turtle. Rating EC2.

EIS No. 20090035, ERP No. D-AFS-K65357-CA, Tehachapi Renewable Transmission Project, Construct, Operate and Maintain Ne and Upgraded 500 kV and 220kV Transmission Lines and Substations, Special Use Authorization, Angeles National Forest, Los Angeles County, CA.

Summary: EPA expressed environmental concerns about the potential adverse impacts to aquatic and biological resources. Analysis of potential health impacts from lead and arsenic from construction on an NPL smelter site and mitigation measures should be addressed in the final EIS. Rating EC2.

EIS No. 20090039, ERP No. D-AFS-J65531-SD, Telegraph Project Area, Proposes to Implement Multiple Resource Management Actions, Northern Hills Ranger District, Black Hills National Forest, Lawrence and Pennington Counties, SD.

Summary: EPA expressed environmental concerns about the water quality and wildlife habitat impacts associated with significant new road construction activities. Rating EC2.

EIS No. 20090043, ERP No. DR-AFS-K65342-CA, Moonlight and Wheeler Fires Recovery and Restoration Project, Analysis of the No-Action and Action Alternatives, Mt. Hough Ranger District, Plumas National Forest, Plumas County, CA.

Summary: EPA expressed environmental concerns about potential adverse impacts to water quality and wildlife habitat. EPA recommends that the Forest Service consider incorporating elements of other proposed alternatives into the preferred alternative, to minimize adverse impacts to damaged watersheds. Rating EC2.

Final EISs

EIS No. 20090050, ERP No. F-NIG-K60038-CA, Graton Rancheria Casino and Hotel Project, Transfer of Land into Trust, Implementation, Federated Indians of Graton Rancheria (Tribe), Sonoma County, CA.

Summary: EPA continue to have environmental concerns about impacts to groundwater resources.

Dated: April 14, 2009.
Ken Mittelholtz,
Environmental Protection Specialist, Office of Federal Activities.

[FR Doc. E9-8862 Filed 4-16-09; 8:45 am]

BILLING CODE 6560-50-P